Title 3—

The President

Notice of January 6, 2006

Notice of Intention To Enter Into a Free Trade Agreement With Peru

Consistent with section 2105(a)(1)(A) of the Trade Act of 2002, I have notified the Congress of my intention to enter into a free trade agreement with the Republic of Peru.

Consistent with section 2105(a)(1)(A) of that Act, this notice shall be published in the Federal Register.

B

THE WHITE HOUSE,

Washington, January 6, 2006.

[FR Doc. 06-261

Filed 1-9-06; 10:21 am]

Billing code 3190-01-P